FEDERAL COMMUNICATIONS COMMISSION

47 CFR Part 73

[DA 07-2654; MB Docket No. 05-131; RM-11208; RM-11209; RM-11367; RM-11368; RM-11369]

Radio Broadcasting Services; Cottonwood, Redding, and Shasta Lake, CA

AGENCY: Federal Communications Commission.

ACTION: Final rule.

SUMMARY: The staff grants a counterproposal filed by Michael Birdsill to allot Channel 221A to Cottonwood, California, as a first local aural service, and a counterproposal filed by Educational Media Foundation to allot Channel 224A to Shasta Lake, California, as a third local service. It denies rulemaking petitions filed by Linda Davidson and Paul Barth to allot Channel 221A to Redding, California, as a tenth local service, and a counterproposal filed by Wild Thing Broadcasters to allot Channel 221C3 at Cottonwood. With this action, the proceeding is terminated. See SUPPLEMENTARY INFORMATION.

DATES: Effective July 30, 2007.

ADDRESSES: Federal Communications Commission, 445 12th Street, SW., Washington, DC 20554.

FOR FURTHER INFORMATION CONTACT: Andrew J. Rhodes, Media Bureau, (202) 418-2180.

SUPPLEMENTARY INFORMATION: This is a synopsis of the Commission's Report and Order, MB Docket No. 05-131, adopted June 13, 2007, and released June 15, 2007. The full text of this Commission decision is available for inspection and copying during normal business hours in the FCC Reference Information Center (Room CY-A257), 445 12th Street, SW., Washington, DC 20554. The complete text of this decision may also be purchased from the Commission's copy contractor, Best Copy and Printing, Inc., Portals II, 445 12th Street, SW., Room CY-B402, Washington, DC 20554, telephone 1-800-378-3160 or http://www.BCPIWEB.com.

Under the Commission's FM Allotment Priorities, a first local service at Cottonwood is preferred over a tenth aural service at Redding or a third local service at Shasta Lake because it triggers higher allotment Priority (3). The staff then considers whether to allot Channel 221A or higher class Channel 221C3 at Cottonwood. The staff decides that the public interest would be better served by allotting lower class Channel 221A at Cottonwood because this allotment will make possible the allotment of Channel 224A at Shasta Lake. See 70 F.R. 19399 (April 13, 2005).

The reference coordinates for Channel 221A at Cottonwood, CA, are 40-23-45 NL and 122-17-22 WL and for Channel 224A at Shasta Lake, CA, are 40-38-51 and 122-27-19. See 70 F.R. 17384, April 6, 2005.

Finally, the staff makes an editorial correction to 47 C.F.R. Section 73.202(b) to change the name of Shasta Lake City to Shasta Lake to reflect the correct name of the community.

The Commission will send a copy of the Report and Order in this proceeding in a report to be sent to Congress and the Government Accountability Office pursuant to the Congressional Review Act, see 5 U.S.C. 801(a)(1)(A).

List of Subjects in 47 CFR Part 73

Radio, Radio broadcasting.

As stated in the preamble, the Federal Communications Commission amends 47 CFR Part 73 as follows:

PART 73—RADIO BROADCAST SERVICES

1. The authority for Part 73 continues to read as follows:

Authority: 47 U.S.C. 154, 303, 334, 336.

§ 73.202 [Amended]

2. Section 73.202(b), the Table of FM Allotments under California, is amended by adding, Cottonwood, Channel 221A, and by adding Shasta Lake, Channel 224A.

Federal Communications Commission.
John A. Karousos,
Assistant Chief, Audio Division, Media Bureau.

[FR Doc. E7-13487 Filed 7-10-07; 8:45 am]

BILLING CODE 6712-01-P